DEPARTMENT OF TRANSPORTATION

Federal Transit Administration

FY16 Competitive Funding Opportunity: Grants for Buses and Bus Facilities and Low or No Emission Grant Programs; 5339(b) Grants for Buses and Bus Facilities Program and 5339(c) Low or No Emission Program

AGENCY: Federal Transit Administration (FTA), DOT.

ACTION: Notice of Funding Opportunity (NOFO).

SUMMARY: The Federal Transit Administration (FTA) announces the availability of approximately $211 million of Fiscal Year (FY) 2016 funds for the Section 5339(b) Grants for Buses and Bus Facilities Competitive Grant Program (Bus Program) and approximately $55 million for 5339(c) Low or No Emission Bus Competitive Grant Program (Low-No Program). Funds awarded for the Bus Program will finance capital projects to replace, rehabilitate, purchase or lease buses and related equipment and to rehabilitate, purchase, construct or lease bus-related facilities, including programs of bus and bus-related projects for subrecipients that are public agencies, private companies engaged in public transportation, or private non-profit organizations. Funds awarded for the Low-No Program will finance the purchase or lease of low or no emission vehicles that use advanced technologies, including related equipment or facilities, for transit revenue operations. Projects may include costs incidental to the acquisition of buses or to the construction of facilities, such as the costs of related workforce development and training activities, and project development. FTA may award additional funding that is made available to the program prior to the announcement of project selections.

DATES: Complete proposals must be submitted electronically through the GRANTS.GOV “APPLY” function by May 13, 2016. Prospective applicants should initiate the process by registering on the GRANTS.GOV Web site promptly to ensure completion of the application process before the submission deadline. Instructions for applying can be found on FTA's Web site at http://transit.dot.gov/howtoapply and in the “FIND” module of GRANTS.GOV. Mail and fax submissions will not be accepted.

FOR FURTHER INFORMATION CONTACT: For the Bus Program, contact Sam Snead, FTA Office of Program Management, 202-366-1089, or samuel.snead@dot.gov. For the Low-No Program, contact Tara Clark, same office, 202-366-2623, or tara.clark@dot.gov.

SUPPLEMENTARY INFORMATION:

Table Of Contents

A. Program Description

1. 5339(b) Bus and Bus Facilities Competitive Program

2. 5339(c) Low or No Emission Program

B. Federal Award Information

1. 5339(b) Bus and Bus Facilities Competitive Program

2. 5339(c) Low or No Emission Program

C. Eligibility Information

1. 5339(b) Bus and Bus Facilities Competitive Program

2. 5339(c) Low or No Emission Program

D. Application and Submission Information

E. Application Review

1. 5339(b) Bus and Bus Facilities Competitive Program

2. 5339(c) Low or No Emission Program

F. Federal Award Administration

G. Federal Awarding Agency Contacts

H. Technical Assistance and Other Program Information

A. Program Description

1. The Bus Program

Section 5339(b) of Title 49, United States Code, as amended by Section 3017 of the Fixing America's Surface Transportation Act, Pub. L. 114-94, authorizes FTA to award Bus Program grants through a competitive process, as described in this notice. The program provides funds to State and local governmental authorities for capital projects to replace, rehabilitate, purchase or lease buses and related equipment and to rehabilitate, purchase, construct or lease bus-related facilities. Under this authority, FTA also may award grants to eligible recipients for projects to be undertaken by subrecipients that are public agencies, private companies engaged in public transportation, or private non-profit organizations. The purpose of the Bus Program is to improve the condition of the nation's public transportation bus fleets, expand transportation access to employment, educational, and healthcare facilities, and to improve mobility options in rural and urban areas throughout the country. In accordance with the statutory requirement that FTA must “consider the age and condition of buses, bus fleets, related equipment, and bus-related facilities”, FTA will prioritize projects that demonstrate how they will address significant repair and maintenance needs, improve the safety of transit systems, deploy connective projects that include advanced technologies to connect bus systems with other networks, and support the creation of ladders of opportunity.

2. The Low or No Emission Bus (Low-No) Program

Section 5339(c) of Title 49, United States Code, as established by Section 3017 of the FAST Act, authorizes FTA to award grants for low or no emission buses through a competitive process, as described in this notice. The Low or No Emission Bus Program (Low-No Program) provides funding to State and local governmental authorities for the purchase or lease of zero-emission and low-emission transit buses, including acquisition, construction, and leasing of required supporting facilities such as recharging, refueling, and maintenance facilities. FTA recognizes that a significant transformation is occurring in the transit bus industry, with the increasing availability of low and zero emission bus vehicles for transit revenue operations. The adoption of these technologically advanced vehicles will enable the country's transportation system to move toward a cleaner and more energy-efficient future, as described in the U.S. Department of Transportation's recent report, Beyond Traffic 2045. Accordingly, the purpose of the Low-No Program is to support the transition of the nation's transit fleet to the lowest polluting and most energy efficient transit vehicle technologies, thereby reducing local air pollution and direct carbon emissions, and to support the deployment of technologically advanced U.S.-made transit buses that have been largely proven in testing and demonstrations, but are not yet widely deployed in transit fleets.

B. Federal Award Information

1. 5339(b) Grants for Buses and Bus Facilities Competitive Program

The FAST Act amended 49 U.S.C. 5339 to provide competitive grants for eligible projects under the Bus Program and has authorized $213 million in FY 2016 to carry out the Bus Program. A one half of one percent take down authorized for oversight reduces this amount to approximately $211 million. A minimum of 10 percent of the amount awarded under the Bus Program will be awarded to States for projects located in rural areas.

2. 5339(c) Low or No Emission Competitive Program

The FAST Act established 49 U.S.C. 5339(c) to provide competitive grants for eligible projects under the Low-No Program and has authorized $55 million in FY 2016 to carry out the Low-No Program.

C. Eligibility Information

1. Bus Program Eligibility

i. Eligible Applicants

Eligible applicants include direct recipients of FTA grants under the Section 5307 Urbanized Area Formula program, States, and Indian Tribes. Except for projects proposed by Indian Tribes, proposals for projects in rural (non-urbanized) areas must be submitted as part of a consolidated State proposal. States and other eligible applicants may also submit consolidated proposals for projects in urbanized areas. Proposals may contain projects to be implemented by the recipient or its subrecipients. Eligible subrecipients include public agencies, private nonprofit organizations, and private providers engaged in public transportation. If a single project proposal involves multiple public transportation providers, such as when an agency acquires vehicles that will be operated by another agency, the proposal must include a detailed statement regarding the role of each public transportation provider in the implementation of the project.

ii. Cost Sharing or Matching

The maximum Federal share for projects selected under the Bus Program is 80 percent of the net project cost, unless noted below by one of the exceptions.

i. The Federal share is 85 percent of the net project cost of acquiring vehicles (including clean-fuel or alternative fuel vehicles) that are compliant with the Clean Air Act (CAA) and/or the Americans with Disabilities Act (ADA) of 1990.

ii. The Federal share is 90 percent of the net project cost of acquiring, installing or constructing vehicle-related equipment or facilities (including clean fuel or alternative-fuel vehicle-related equipment or facilities) that are required by the Americans with Disabilities Act (ADA) of 1990, or that are necessary to comply with or maintaining compliance with the Clean Air Act. The award recipient must itemize the cost of specific, discrete, vehicle-related equipment associated with compliance with ADA or CAA to be eligible for the maximum 90 percent Federal share for these costs.

Eligible sources of local match include the following: Cash from non-Government sources other than revenues from providing public transportation services; revenues derived from the sale of advertising and concessions; amounts received under a service agreement with a State or local social service agency or private social service organization; revenues generated from value capture financing mechanisms; or funds from an undistributed cash surplus; replacement or depreciation cash fund or reserve; or new capital. In addition, transportation development credits or documentation of in-kind match may substitute for local match if identified in the application.

iii. Eligible Projects

Eligible projects are capital projects to replace, rehabilitate purchase, or lease buses, vans, and related equipment (including intelligent technology and software), and capital projects to rehabilitate, purchase, construct, or lease bus-related facilities. Eligible projects under the Bus Program also include all projects otherwise eligible under the Low-No Program.

FTA is particularly interested in implementing the provisions of the FAST Act that permit applicants to use up to 0.5 percent of the FTA funds for workforce development activities eligible under 49 U.S.C. 5314 and an additional 0.5 percent for costs associated with training at the National Transit Institute. Applicants should identify the proposed use of funds for these activities in the project proposal and identify them separately in the project budget.

2. Low-No Program Eligibility

i. Eligible Applicants

Eligible applicants include direct recipients of FTA grants under the Section 5307 Urbanized Area Formula program, States, and Indian Tribes. Except for projects proposed by Indian Tribes, proposals for funding eligible projects in rural (non-urbanized) areas must be submitted as part of a consolidated State proposal. States and other eligible applicants also may submit consolidated proposals for projects in urbanized areas. Proposals may contain projects to be implemented by the recipient or its subrecipients. Eligible subrecipients include direct recipients of Section 5307 grants and local government authorities that operate fixed route transit service. If a single project proposal involves multiple public transportation providers, such as when an agency acquires vehicles that will be operated by another agency, the proposal must include a detailed statement regarding the role of each public transportation provider in the implementation of the project.

An eligible recipient may submit an application in partnership with other entities that intend to participate in the implementation of the project, including, but not limited to, specific vehicle manufacturers, equipment vendors, owners or operators of related facilities, or project consultants. If an application that involves such a partnership is selected for funding, the competitive selection process will be deemed to satisfy the requirement for a competitive procurement under 49 U.S.C. 5325(a) for the named entities. Applicants are advised that any changes to the proposed partnership will require FTA advance approval, would need to be consistent with the scope of the approved project, and may necessitate a competitive procurement.

Under the 5339(c) Low-No Program, as amended by the FAST Act, there no longer is a requirement that an eligible project or recipient be located in an area designated as an air quality non-attainment or maintenance area.

ii. Cost Sharing or Matching

All eligible expenses under the Low-No Program are attributable to compliance with the Clean Air Act. Therefore under the provisions of 49 U.S.C. 5323(i) the maximum Federal participation in the costs of leasing or acquiring a transit bus financed under the Low-No Program is 85 percent of the total transit bus cost. The proposer may seek a lower Federal contribution. Further, the maximum Federal participation in the cost of leasing or acquiring low or no emission bus-related equipment and facilities under the Low-No Program, such as recharging or refueling facilities, is 90 percent of the net project cost of the equipment or facilities that are attributable to compliance with the Clean Air Act.

Eligible sources of local match include the following: Cash from non-Government sources other than revenues from providing public transportation services; revenues derived from the sale of advertising and concessions; amounts received under a service agreement with a State or local social service agency or private social service organization; revenues generated from value capture financing mechanisms; or funds from an undistributed cash surplus; replacement or depreciation cash fund or reserve; new capital; or in-kind contributions. In addition, transportation development credits or documentation of in-kind match may substitute for local match if identified in the application.

iii. Eligible Projects

Eligible projects are projects or programs of projects for purchasing or leasing low or no emission buses, acquiring low or no emission buses with a leased power source, constructing or leasing facilities and related equipment (including intelligent technology and software), for low or no emission buses, constructing new public transportation facilities to accommodate low or no emission buses, or rehabilitating or improving existing public transportation facilities to accommodate low or no emission buses. All proposed projects must be part of the intended recipient's long-term integrated fleet management plan.

Under the Low-No Program, a low or no-emission bus is defined as a passenger vehicle used to provide public transportation that significantly reduces energy consumption, air pollution, or direct carbon emissions, when compared to a standard vehicle. This includes zero-emission transit buses, which are defined as buses that produce no direct carbon emissions and no particulate matter emissions under any and all possible operational modes and conditions. Examples of zero emission bus technologies include, but are not limited to hydrogen fuel-cell buses and battery-electric buses. All transit bus models procured with funds awarded under the Low-No Program must complete FTA bus testing for production transit buses pursuant to 49 U.S.C. 5318. The development or deployment of prototype vehicles is not eligible for funding under the Low-No program.

FTA is particularly interested in implementing the provisions of the FAST Act that permit applicants to use up to 0.5 percent of the FTA funds for workforce development activities eligible under 49 U.S.C. 5314 and an additional 0.5 percent for costs associated with training at the National Transit Institute. Applicants should identify the proposed use of funds for these activities in the project proposal and identify them separately in the project budget.

D. Application and Submission Information

1. Address

Applications must be submitted to Grants.gov. General information for submitting applications through Grants.gov can be found at www.fta.dot.gov/howtoapply along with specific instructions for the forms and attachments required for submission. Failure to submit the information as requested can delay review of the application.

The FTA urges proposers to submit applications at least 72 hours prior to the due date to allow time to receive the validation messages and to correct any problems that may have caused a rejection notification. The FTA will not accept submissions after the stated deadline. GRANTS.GOV scheduled maintenance and outage times are announced on the GRANTS.GOV Web site. Deadlines will not be extended due to scheduled Web site maintenance.

Proposers are encouraged to begin the process of registration on the GRANTS.GOV site well in advance of the submission deadline. Registration is a multi-step process, which may take several weeks to complete before an application can be submitted. Registered proposers may still be required to take steps to keep their registration up to date before submissions can be made successfully: (1) Registration in the System for Award Management (SAM) is renewed annually; and, (2) persons making submissions on behalf of the Authorized Organization Representative (AOR) must be authorized in GRANTS.GOV by the AOR to make submissions.

Within 48 hours after submitting an electronic application, the applicant should receive three email messages from GRANTS.GOV: (1) Confirmation of successful transmission to GRANTS.GOV, (2) confirmation of successful validation by GRANTS.GOV, and (3) confirmation of successful validation by FTA. If confirmations of successful validation are not received or a notice of failed validation or incomplete materials is received, the applicant must address the reason for the failed validation, as described in the email notice, and resubmit before the submission deadline. If making a resubmission for any reason, include all original attachments regardless of which attachments were updated and check the box on the supplemental form indicating this is a resubmission.

2. Content and Form of Application Submission

A complete proposal submission consists of at least two forms: The SF424 Mandatory Form and the relevant supplemental form for either the Bus Program or the Low-No Program. The application must include responses to all sections of the SF424 Mandatory Form and the relevant Supplemental Form, unless indicated as optional. The information on the supplemental form will be used to determine applicant and project eligibility for the program, and to evaluate the proposal against the selection criteria described in part E of this notice.

A separate supplemental form exists for the Bus Program and the Low-No program. Projects that use the inappropriate form will not contain the information necessary to determine eligibility of the project and will not be evaluated. Applicants may submit multiple proposals for one or both competitions in a single application, but must complete a separate “project detail” section of the appropriate supplemental form for each project.

The supplemental form must be placed in the attachments section of the SF424 Mandatory Form. Proposers must use the relevant supplemental form(s) designated for the Bus Program and/or the Low-No Program and attach it/them to the submission in GRANTS.GOV to successfully complete the application process. A submission may include multiple supplemental forms, and a single supplemental form may contain multiple individual project proposals. All project proposals will be evaluated separately, regardless of whether they are submitted as a single submission.

An applicant may submit additional supporting documentation for each project proposal as attachments. Any supporting documentation must be described and referenced by file name in the appropriate response section of the supplemental form, or it may not be reviewed.

Information such as proposer name, Federal amount requested, local match amount, description of areas served, etc. may be requested in varying degrees of detail on both the SF424 form and Supplemental Form. Proposers must fill in all fields unless stated otherwise on the forms. The Supplemental Form template supports pasting copied text from other documents; applicants should verify that pasted text is fully captured on the Supplemental Form and has not been truncated by the character limits built into the form. Proposers should use both the “Check Package for Errors” and the “Validate Form” validation buttons on both forms to check all required fields on the forms, and ensure that the federal and local amounts specified are consistent.

3. Unique Entity Identifier and System for Award Management (SAM)

All applicants must provide a unique entity identifier provided by the System for Award Management (SAM). Registration in SAM may take as little as 3-5 business days, but since there could be unexpected steps or delays (for example, if you need to obtain an Employer Identification Number), FTA recommends allowing ample time, up to several weeks, for completion of all steps. For additional information on obtaining a unique entity identifier, please visit www.sam.gov. Further instructions on registration will be provided by FTA through an introductory applicant training session. Dates and times for the training session will be posted on FTA's Web site at www.fta.dot.gov/busprogram.

4. Submission Dates and Times

5.

Project proposals must be submitted electronically through GRANTS.GOV by May 13, 2016. Mail and fax submissions will not be accepted.

6. Funding Restrictions

Funds under this NOFO cannot be used to reimburse applicants for otherwise eligible expenses incurred prior to FTA award of a Grant Agreement until FTA has issued pre-award authority for selected projects through a notification in the Federal Register, or unless FTA has issued a “Letter of No Prejudice” for the project before the expenses are incurred.

7. Other Submission Requirements

Applicants are encouraged to consider scaling projects in increments of 1 or 2 transit buses, in case insufficient funding is available to fund a project at the full requested amount. If an applicant indicates that a project is scalable, the applicant must provide an appropriate minimum funding amount that will fund an eligible project that achieves the objectives of the program and meets all relevant program requirements. The applicant must provide a clear explanation of how the project budget would be affected by a reduced award. Additionally, funding requests for workforce development activities must be addressed separately in the budget section of the application, and such activities must be attributable to the project being applied for.

E. Application Review

1. Evaluation Criteria for the Bus and Bus Facilities Competitive Program

FTA will evaluate project proposals for the Bus Program based on the criteria described in this notice. Projects will be evaluated primarily on the responses provided in the supplemental form. Additional information may be provided to support the responses provided, however, any additional documentation must be directly referenced on the supplemental form, including the file name where the additional information can be found.

1. Demonstration of Need

Applicants must demonstrate how the proposed project will address an unmet need for capital investment in bus vehicles and/or supporting facilities, enhance the safety of the transit system for transit vehicle operators, riders, and the general public, or improve connectivity of bus systems with other networks through the use of deployment-ready information technologies. For example, an applicant may demonstrate a substantial backlog of deferred capital investment, insufficient size or capacity of maintenance facilities, excessive reliance on vehicles that are beyond their intended service life, a vehicle fleet that is insufficient to meet current ridership demands, or passenger facilities that are insufficient for their current use. For safety, an applicant may demonstrate safety concerns with vehicles, equipment, or facilities that are beyond their intended useful life, or that are no longer appropriate for use due to safety concerns. To improve connectivity, bus systems may deploy Intelligent Transportation System (ITS) technologies or software that link buses with other transportation networks. Applicants should also describe how the proposed project will improve the operation of the transit system and whether the project represents a one-time or periodic need that cannot reasonably be funded from FTA program formula allocations or State and/or local resources.

Applicants should provide the following information, which FTA will use to assess the need for capital investment underlying the proposed project:

a. For bus projects (replacement, rehabilitation or expansion): The age and condition of the asset(s) to be replaced or rehabilitated by the proposed project, relative to their intended useful life. Consistency with the proposer's bus fleet management plan. Condition and performance of the asset to be replaced by the proposed project, as ascertained through field inspections or otherwise, if available. For fleet expansion requests, the degree to which the proposed project will have a significant impact on service delivery. For both the Bus Program and Low-No Program, the proposal must address whether the project conforms to FTA's spare ratio guidelines.

b. For bus facility and equipment projects (replacement and/or expansion): The age of the asset to be rehabilitated or replaced relative to its useful life. The degree to which the proposed project will enable the agency to improve the maintenance and condition of the agency's fleet and/or other related transit assets. For expansion requests, the degree to which the proposed project addresses a current capacity constraint that is limiting the ability of the agency to provide an adequate level of service relative to current ridership demands or the degree the equipment will improve connectivity of bus systems to other networks and infrastructure.

2. Demonstration of Benefits

Applicants must demonstrate how the proposed project will support the creation of ladders of opportunity, which are defined for this competition as public transportation services that enable individuals to achieve increased economic security by supporting the following five Ladders of Opportunity Principles: (1) Enhanced access to work, (2) more transportation choices, (3) support for existing communities, (4) enhanced economic opportunities, and (5) support for partnerships between public agencies, non-profit organizations and the private sector.

Enhanced access to work: FTA will evaluate whether the project will improve access for Americans with transportation disadvantages through reliable and timely access to employment centers, educational opportunities, services and other basic needs.

More Transportation Choices: FTA will evaluate whether the project will significantly enhance mobility through the creation of more convenient transportation options for travelers.

Support for Existing Communities: FTA will evaluate whether the project will increase community revitalization, improve the efficiency of public works investments or safeguard rural communities.

Enhanced Economic Opportunities: FTA will evaluate whether the project improves economic opportunities by linking capital investments with local workforce development opportunities and initiatives, including connections to employment and educational opportunities. FTA is particularly interested in projects that propose to utilize the eligibility of 0.5 percent of the proposed Federal funding for workforce development and/or 0.5 percent for training at the National Transit Institute. Please note that funding requests for workforce development activities must be addressed separately in the budget section of the application, and such activities must be attributable to the project being applied for.

Support for partnerships between public agencies, non-profit organizations and the private sector: FTA will evaluate the extent to which the proposed project will support strong partnerships between State or local public agencies, local non-profit organizations, and the private sector to improve mobility for individuals with limited access to economic opportunities. This includes the extent the applicant has or will bring local workforce development, training, education, veterans, transportation and planning stakeholders together with representation of key customer groups (people with low-incomes, people with disabilities, youths, veterans, elderly populations, etc.) to formulate a plan to create ladders of opportunity in an area.

3. Planning and Local/Regional Prioritization

Applicants must demonstrate how the proposed project is consistent with local and regional long-range planning documents and local government priorities. This will involve assessing whether the project is consistent with the transit priorities identified in the long range plan; and/or contingency/illustrative projects included in that plan; or the locally developed human services public transportation coordinated plan. Applicants are not required to submit copies of such plans, but should describe how the project will support regional goals and may submit support letters from local and regional planning organizations attesting to the consistency of the proposed project with these plans.

Evidence of additional local or regional prioritization may include letters of support for the project from local government officials, public agencies, and non-profit or private sector partners.

4. Local Financial Commitment

Applicants must identify the source of the local cost share and describe whether such funds are currently available for the project or will need to be secured if the project is selected for funding. FTA will consider the availability of the local cost share as evidence of local financial commitment to the project. In addition, an applicant may propose a local cost share that is greater than the minimum requirement or provide documentation of previous local investments in the project, which cannot be used to satisfy local matching requirements, as evidence of local financial commitment.

5. Project Implementation Strategy

Projects will be evaluated based on the extent to which the project is ready to implement within a reasonable period of time. Among other factors, FTA will assess whether the project qualifies for a Categorical Exclusion (CE), or whether the required environmental work has been initiated or completed for projects requiring an Environmental Assessment (EA) or Environmental Impact Statement (EIS) under the National Environmental Policy Act of 1969 (NEPA), as amended.

Applicants should address whether project implementation plans are complete, including initial design of facilities projects. For vehicle acquisitions, the applicant should explain the status and timeline of the intended procurement strategy.

Applicants must also provide the timeframe under which the Metropolitan Transportation Improvement Program (TIP) and/or Statewide Transportation Improvement Program (STIP) can be amended to include the proposed project. This should be accompanied by evidence of MPO and/or State endorsement. In addition, the proposal should state whether grant funds can be obligated within 12 months from time of award, if selected. For projects that will require formal coordination, approvals or permits from other agencies or project partners, the applicant must demonstrate previous coordination with these organizations and their support for the project, such as through letters of support.

6. Technical, Legal, and Financial Capacity

Applicants must demonstrate that they have the technical, legal and financial capacity to undertake the project. FTA will review relevant oversight assessments and records to determine whether there are any outstanding legal, technical, or financial issues with the applicant that would affect the outcome of the proposed project.

FTA will also review the proposed source of local match. Applicants should submit evidence of the availability of such funds for the project, for example by including a board resolution, letter of support from the State, or other documentation of the source of local funds.

Review and Selection Process

In addition to other FTA staff that may review the proposals, a technical evaluation committee will evaluate proposals based on the published evaluation criteria. Members of the technical evaluation committee and other FTA staff may request additional information from applicants, if necessary. Based on the findings of the technical evaluation committee, the FTA Administrator will determine the final selection of projects for program funding. FTA may consider geographic diversity, diversity in the size of the transit systems receiving funding, and/or the applicant's receipt of other competitive awards in determining the allocation of program funds. Not less than 10 percent of the Bus and Bus Facility Program funds will be distributed to projects in rural areas. In addition, not more than 10 percent of the funds may be awarded to a single grantee.

2. Selection Criteria for the Low or No Emission Bus Program

FTA will evaluate project proposals for the Low-No Program based on the criteria described in this notice. Projects will be evaluated primarily on the responses provided in the supplemental form. Additional information may be provided to support the responses provided; however, any additional documentation must be directly referenced on the supplemental form, including the file name where the additional information can be found.

i. Demonstration of Need

Since the purpose of this program is to fund bus vehicles and facilities, applicants must demonstrate how the proposed project will address an unmet need for capital investment in bus vehicles and/or supporting facilities. For example, an applicant may demonstrate a substantial backlog of deferred capital investment, insufficient size or capacity of maintenance facilities for low or no emission vehicles, excessive reliance on vehicles that are beyond their intended service life, or a vehicle fleet size that is insufficient to meet current ridership demands.

Applicants should also provide the following information, which FTA will use to assess the need for capital investment underlying the proposed project:

a. For low or no emission bus projects (replacement, rehabilitation or expansion): The age and condition of the vehicles or facilities to be replaced or rehabilitated by the proposed project, relative to their intended useful life. The consistency of the proposed project with the proposer's bus fleet management plan. The condition and performance of the vehicles to be replaced by the proposed project. For fleet expansion requests, the degree to which the proposed project will have a significant impact on service delivery. For both the Bus Program and Low-No Program, the proposal must address whether the project conforms to FTA's spare ratio guidelines. Low or no emission vehicles funded under this program are not exempted from FTA's standard spare ratio requirements which apply to and are calculated on the agency's entire fleet.

b. For bus facility and equipment projects (replacement and/or expansion): The age of the asset to be rehabilitated or replaced relative to its useful life. The degree to which the proposed project will enable the agency to improve the maintenance or operation of the agency's existing low or no emission vehicles, and/or other related transit assets.

ii. Demonstration of Benefits

Applicants must demonstrate how the proposed project will support the successful deployment of vehicles with advanced propulsion technologies in regular transit operations. In particular, the applicant must demonstrate how the proposed project will support the following Low-No Program objectives: (1) Reduce Direct Carbon Emissions; (2) Reduce Particulate Emissions; (3) Support Deployment of Advanced Propulsion Technologies; (4) Demonstrate Successful Revenue Operation of New Technologies.

Reduce Direct Carbon Emissions: Applicants should demonstrate how the proposed vehicles or facility will reduce emissions of greenhouse gases from transit vehicle operations. FTA will evaluate the rate of direct carbon emissions by the proposed vehicles or vehicles to be supported by the proposed facility, the number of vehicles that will be in operation as a result of the proposed project, and the emissions from the vehicles that will be replaced or moved to the spare fleet as a result of the proposed project.

Reduce Particulate Emissions: Applicants should demonstrate how the proposed vehicles or facility will reduce the emission of particulates that create local air pollution, which leads to local environmental health concerns, smog, and unhealthy ozone concentrations. FTA will evaluate the rate of particulate emissions by the proposed vehicles or vehicles to be supported by the proposed facility, the number of vehicles that will be in operation as a result of the proposed project, and the emissions from the vehicles that will be replaced or moved to the spare fleet as a result of the proposed project.

Support Deployment of Advanced Propulsion Technologies: As described in the U.S. Department of Transportation's “Beyond Traffic 2045”, the transportation sector will need to significantly reduce its emissions of greenhouse gases. Accordingly, applicants should describe how the proposed project will introduce new vehicle technologies that reduce emissions and increase energy efficiency into transit revenue operations. FTA will consider the prevalence of the proposed propulsion technology in the nation's transit fleet, the degree to which the proposed technology reduces emissions as compared to more common vehicle propulsion technologies, and the capability of the proposed vehicle type to perform to an adequate level of performance in standard revenue operations, as evidenced by successful revenue service in similar operating environments.

Demonstrate Successful Revenue Operation of New Technologies: Applicants should describe how the proposed project will support the successful operation of new technologies in revenue service. FTA will evaluate the current or planned ability of the applicant to successfully operate and maintain the proposed vehicles or vehicles to be supported by the proposed project. As the introduction of new technology may impact the skills needed by the applicant's workforce, FTA is particularly interested in projects that propose to utilize the eligibility of 0.5 percent of the proposed Federal funding for workforce development and/or 0.5 percent for training at the National Transit Institute. Please note that funding requests for workforce development activities must be addressed separately in the budget section of the application, and such activities must be attributable to the project being applied for. Applicants should also address the appropriateness of the intended vehicles for the type of service proposed, in particular when considering vehicle operating range, charging or fueling requirements, or terrain. FTA will evaluate the consistency of the proposed project with the applicant's long-term fleet management plan, as well as the applicant's previous experience with the relevant low or no emissions vehicle technologies.

iii. Planning and Local/Regional Prioritization

Applicants must demonstrate how the proposed project is consistent with local and regional long range planning documents and local government priorities. This will involve assessing whether the project is consistent with the transit priorities identified in the long range plan; and/or contingency/illustrative projects included in that plan; or the locally-developed human services public transportation coordinated plan. Applicants are not required to submit copies of such plans, but should describe how the project will support regional goals and may submit support letters from local and regional planning organizations attesting to the consistency of the proposed project with these plans.

Evidence of additional local or regional prioritization may include letters of support for the project from local government officials, public agencies, and non-profit or private sector partners.

iv. Local Financial Commitment

Applicants must identify the source of the local cost share and describe whether such funds are currently available for the project or will need to be secured if the project is selected for funding. FTA will consider the availability of the local cost share as evidence of local financial commitment to the project. In addition, an applicant may propose a local cost share that is greater than the minimum requirement or provide documentation of previous local investments in the project, which cannot be used to satisfy local matching requirements, as evidence of local financial commitment. FTA will also note if an applicant proposes to use grant funds only for the incremental cost of new technologies over the cost of replacing vehicles with standard propulsion technologies.

v. Project Implementation Strategy

Projects will be evaluated based on the extent to which the project is ready to implement within a reasonable period of time. Among other factors, FTA will assess whether the project qualifies for a Categorical Exclusion (CE), or whether the required environmental work has been initiated or completed for projects requiring an Environmental Assessment (EA) or Environmental Impact Statement (EIS) under the National Environmental Policy Act of 1969 (NEPA), as amended.

Applicants must provide information regarding their project implementation plans, including whether initial design of facilities projects has been completed. For vehicle acquisitions, the applicant must explain the status and timeline of the intended procurement strategy, and must demonstrate familiarity with the current market availability of the proposed advanced vehicle propulsion technology.

For project proposals that do not specify a particular manufacturer, model, or vendor, applicants must demonstrate that vehicles are available of the proposed type that meet or exceed FTA's Buy America domestic content requirements.

For project proposals that involve a partnership with a manufacturer, vendor, consultant, or other third party, applicants must identify by name any project partners, including but not limited to other transit agencies, bus manufacturers, owners or operators of related facilities, or any expert consultants. FTA will evaluate the experience and capacity of the named project partners to successfully implement the proposed project based on the partners' experience and qualifications. Applicants are advised to submit information on the partners' qualification and experience as a part of the application. Entities involved in the project that are not named in the application will be required to be selected through a competitive procurement.

Applicants must also provide the timeframe under which the TIP and/or STIP can be amended to include the proposed project. This should be accompanied by evidence of MPO and/or State endorsement. In addition, the proposal should state whether grant funds can be obligated within 12 months from time of award, if selected. For projects that will require formal coordination, approvals or permits from other agencies or project partners, the applicant must demonstrate previous coordination with these organizations and their support for the project, such as through letters of support.

vi. Technical, Legal, and Financial Capacity

Applicants must demonstrate that they have the technical, legal and financial capacity to undertake the project. FTA will review relevant oversight assessments and records to determine whether there are any outstanding legal, technical, or financial issues with the applicant that would affect the outcome of the proposed project. FTA will also review the proposed source of local match. Applicants should submit evidence of the availability of such funds for the project, for example by including a board resolution, letter of support from the State, or other documentation of the source of local funds.

Review and Selection Process

In addition to other FTA staff that may review the proposals, a technical evaluation committee will evaluate proposals based on the published evaluation criteria. Members of the technical evaluation committee and other FTA staff may request additional information from applicants, if necessary. Based on the findings of the technical evaluation committee, the FTA Administrator will determine the final selection of projects for program funding. FTA may consider geographic diversity, diversity in the size of the transit systems receiving funding, and/or the applicant's receipt of other competitive awards in determining the allocation of program funds. FTA may consider capping the amount a single applicant may receive.

F. Federal Award Administration

i. Federal Award Notice

Subsequent to an announcement by the FTA Administrator of the final project selections, which will be posted on the FTA Web site, FTA will publish a list of the selected projects, a summary of final scores for selected projects, Federal award amounts and recipients in the Federal Register. Project recipients should contact their FTA Regional Offices for additional information regarding allocations for projects under the Bus and Low-No Programs.

At the time the project selections are announced, FTA will extend pre-award authority for the selected projects. There is no blanket pre-award authority for these projects before announcement.

ii. Award Administration

Funds under the Bus and Low-No Programs are available to States, designated recipients, or eligible direct recipients of Section 5307 funds. There is no minimum or maximum grant award amount; however, FTA intends to fund as many meritorious projects as possible. Only proposals from eligible recipients for eligible activities will be considered for funding. Due to funding limitations, proposers that are selected for funding may receive less than the amount originally requested. In those cases, applicants must be able to demonstrate that the proposed projects are still viable and can be completed with the amount awarded.

iii. Administrative and National Policy Requirements

i. Pre-Award Authority

The FTA will issue specific guidance to recipients regarding pre-award authority at the time of selection. The FTA does not provide pre-award authority for competitive funds until projects are selected and even then there are Federal requirements that must be met before costs are incurred. For more information about FTA's policy on pre-award authority, please see the FY 2016 Apportionment Notice published on February 16, 2016. https://www.gpo.gov/fdsys/pkg/FR-2016-02-16/pdf/2016-02821.pdf.

ii. Grant Requirements

If selected, awardees will apply for a grant through FTA's Transit Award Management System (TrAMS). Recipients of Bus Program Funding in urban areas and all Low/No Emission recipients, are subject to the grant requirements of section 5307 Urbanized Area Formula Grant program, including those of FTA Circular 9030.1E. Recipients of Bus Program Funding in rural areas are subject to the grant requirements of Section 5311 Formula Grants for Rural Areas Program, including those of FTA Circular 9040.1G All recipients must follow the Grants Management Requirements of FTA Circular 5010.1D, and the labor protections of 49 U.S.C. Section 5333(b). All competitive grants, regardless of award amount, will be subject to the congressional notification and release process. Technical assistance regarding these requirements is available from each FTA regional office.

iii. Buy America

The FTA requires that all capital procurements meet FTA's Buy America requirements that require all iron, steel, or manufactured products be produced in the U.S., to help create and protect manufacturing jobs in the U.S. The Ferry program will have a significant economic impact toward meeting the objectives of the Buy America law. The Buy America requirements can be found in 49 CFR part 661. Any proposal that will require a waiver must identify the items for which a waiver will be sought in the application. Applicants should not proceed with the expectation that waivers will be granted.

iv. Disadvantaged Business Enterprise

Projects that include ferry acquisitions are subject to the Disadvantaged Business Enterprise (DBE) program regulations at 49 CFR part 26. The rule requires that, prior to bidding on any FTA-assisted vehicle procurement, entities that manufacture ferries must submit a DBE Program plan and annual goal methodology to FTA. The FTA will then issue a transit vehicle manufacturer (TVM) concurrence/certification letter. Grant recipients must verify each entity's compliance before accepting its bid. A list of certified TVMs is posted on FTA's Web page at http://www.fta.dot.gov/civilrights/12891.html. Recipients should contact FTA before accepting bids from entities not listed on this Web posting. Recipients may also establish project specific DBE goals for ferry purchases. The FTA will provide additional guidance as grants are awarded. For more information on DBE requirements, please contact Britney Berry, Office of Civil Rights, 202-366-1065, email: britney.berry@dot.gov.

v. Planning

The FTA encourages proposers to notify the appropriate State Departments of Transportation and MPOs in areas likely to be served by the project funds made available under these initiatives and programs. Selected projects must be incorporated into the long-range plans and transportation improvement programs of States and metropolitan areas before they are eligible for FTA funding.

vi. Standard Assurances

The applicant assures that it will comply with all applicable Federal statutes, regulations, executive orders, FTA circulars, and other Federal administrative requirements in carrying out any project supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project, unless FTA issues a written determination otherwise. The applicant must submit the Certifications and Assurances before receiving a grant if it does not have current certifications on file.

vii. Reporting

Post-award reporting requirements include submission of Federal Financial Reports and Milestone Reports in FTA's electronic grants management system.

G. Technical Assistance and Other Program Information

This program is not subject to Executive Order 12372, “Intergovernmental Review of Federal Programs.” The FTA will consider applications for funding only from eligible recipients for eligible projects listed in Section C. Complete applications must be submitted through GRANTS.GOV by 11:59 p.m. EDT on XXXXXXX. Contact information for FTA's regional offices can be found on FTA's Web site at www.fta.dot.gov.

H. Federal Awarding Agency Contacts

For further information concerning this notice please contact the Bus Program manager via email at samuel.snead@dot.gov, or call Sam Snead at 202-366-1089. For further information concerning this notice contact the Low-No Program manager, Tara Clark by phone at 202-366-2623, or by email at tara.clark@dot.gov. A TDD is available for individuals who are deaf or hard of hearing at [number]. In addition, FTA will post answers to questions and requests for clarifications on FTA's Web site at http://transit.dot.gov/busprogram. To ensure applicants receive accurate information about eligibility or the program, the applicant is encouraged to contact FTA directly, rather than through intermediaries or third parties, with questions. FTA staff may also conduct briefings on the competitive grants selection and award process upon request.

Matthew J. Welbes,
Executive Director.

[FR Doc. 2016-07027 Filed 3-28-16; 8:45 am]

BILLING CODE 4910-57-P